DEPARTMENT OF STATE

[Public Notice 6132]

Bureau of Educational and Cultural Affairs (ECA)

Request for Grant Proposals: Teacher Exchange Program

Announcement Type: New Cooperative Agreement

Funding Opportunity Number: ECA/A/E-09-01

Catalog of Federal Domestic Assistance Number: 19.408

Key Dates:

Application Deadline: May 23, 2008.

Executive Summary: The Office of Global Educational Programs of the Bureau of Educational and Cultural Affairs (ECA), U.S. Department of State, announces an open competition for three assistance awards to administer components of the Office's Teacher Exchange Program in Fiscal Year 2009. Public and private non-profit organizations or consortia of eligible organizations meeting the provisions described in Internal Revenue Code section 501(c)(3) may submit proposals to cooperate with the Bureau in the administration of the teacher exchange programs as categorized below. To facilitate effective communication between ECA's Teacher Exchange Branch (ECA/A/S/X) and the organization(s) cooperating on these programs, applicant organizations should have offices and staffs located in Washington, DC at the time of application.

In recent years, the Bureau has expanded and diversified its programming for teachers consistent with the Bureau's emphasis on younger and disadvantaged, non-elite populations and with the influence teachers can have on these populations in school classrooms in the U.S. and around the world. This Request for Grant Proposals is part of an effort to add synergies to the Bureau's engagement with primary and secondary school educators and to present a range of teacher program opportunities to potential applicant organizations, which may submit proposals to administer and implement one, two, or all three pairs of the following FY 2009 Teacher Exchange Programs as outlined below:

Pair A: the Fulbright Classroom Teacher Exchanges and the Distinguished Fulbright Awards in Teaching; Pair B: the International Leaders in Education Program and the Teaching Excellence Awards Program; and/or Pair C: the Educational Seminars and the Teachers of Critical Languages Program. Details about these program components are provided under the Funding Opportunity Description section of this document and in the Project Objectives, Goals, and Implementation (POGI) document associated with this solicitation. Proposals should reflect a vision for the program, interpreting the goals of the Fulbright-Hays Act and the Teacher Exchange Program with creativity, as well as providing innovative ideas and recommendations.

The cooperating organization(s) will have responsibility for program administration, which includes the following broad categories: program planning and management; placement; orientation; enrichment activities; participant supervision and support services; fiscal management and budgeting; and program reporting and evaluation. Proposals should include schedules and timelines for notifying ECA, overseas partners, and grantees of placements, travel arrangements and cross-cultural and school information in a timely manner. Programs must comply with J-1 visa regulations. Teacher exchange participants in the U.S. and abroad should be identified through open, merit-based competitions.

Although the amount that will be available to support these programs in FY 2009 has not yet been determined, for planning purposes the total amount of funding that may be available to cover administrative and program costs of these programs will be up to $13,875,000. The amounts listed for each program are provided to enable applicant organizations to prepare budgets for planning purposes, and are subject to change. More specific information for each program is provided below and in the Project Objectives, Goals, and Implementation (POGI) document. All awards are pending availability of FY 2009 funds.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations...and thus to assist in the development of friendly, sympathetic and peaceful relations between the United States and the other countries of the world.” The funding authority for the program above is provided through legislation.

Purpose

To improve mutual understanding among teachers, school administrators, and their schools and communities in the U.S. and abroad through professional development and exchange. Teacher exchanges support the internationalization and increased quality of schools and classrooms, increase the knowledge of students and communities about global issues and cultures, and improve knowledge of foreign languages. Teacher exchanges also encourage the professional development of teachers by broadening their familiarity with and increasing their understanding of approaches to their subjects and pedagogical methods.

The Presidentially appointed J. William Fulbright Foreign Scholarship Board is responsible for two of the programs described below (those in Pair A), and has issued overall policy guidelines and selection criteria which are available at the following Web site: http://exchanges.state.gov/education/fulbright. The Fulbright Foreign Scholarship Board is responsible for the final selection of Fulbright candidates. Organizations cooperating with the Bureau must ensure full and proper identification of the Fulbright Program with the U.S. government and the Department of State.

Applicant organizations may propose to administer and implement one, two, or all three pairs of the following teacher exchange programs.

Pair A

1. In Fulbright Classroom Teacher Exchanges, a teacher from the U.S. and a teacher from a participating foreign country exchange teaching positions and professional duties for a semester or a year. In FY 2009, approximately 60 exchanges are anticipated. Countries currently anticipated for participation are France, Hungary, India, Mexico, South Africa, Switzerland, Turkey, and the United Kingdom, although additional countries may be added, depending on Bureau priorities. Applicant organizations must demonstrate flexibility in working in countries which may not be identified at the present time. In this program model, U.S. teachers apply to participate in the program through the cooperating organization; international counterparts apply through a Fulbright Commission or U.S. Embassy overseas (in the case of Switzerland and the United Kingdom, the CH Youth Exchange and the British Council, respectively). Recruitment of U.S. participants for the FY 2009 program (academic year 2009-2010) is being conducted by the organization currently administering this program component with FY 2008 resources; FY 2009 proposals should include the costs of recruitment for grants to be funded with FY 2010 resources for academic year 2010-2011. In consultation with the Bureau, the U.S. cooperating organization and the nominating entity overseas will facilitate the matching of U.S. and international teacher applicants with one another for the consideration of relevant supervising school administrators. The cooperating U.S. organization will provide an orientation program for all participants and will monitor and support their programs in consultation with overseas counterparts. Amount available for program and administration estimated at up to approximately $2,950,000.

2. New for FY 2009, the Distinguished Fulbright Awards in Teaching will recognize and encourage excellence in teaching in the U.S. and selected countries abroad. Countries participating in the program in FY 2009 may include Argentina, the Czech Republic, Finland, Ghana, Greece, Japan, Mexico, Senegal, Singapore, and South Africa, although additional countries may be added, depending on Bureau priorities. Applicant organizations must demonstrate flexibility in working in countries which may not be identified at the present time. These awards will provide a rich professional growth opportunity to the Distinguished Fulbright Teachers while enhancing mutual understanding among international and U.S. teachers, administrators, their students, and host communities. U.S. teachers will apply to the U.S. cooperating organization to pursue individual projects for a semester or a summer in the participating countries, and teachers from participating countries will apply through the U.S. Embassy or Fulbright Commission to pursue projects in the U.S. The Distinguished Fulbright Teachers will conduct research, take courses for professional development, and lead master classes or seminars for teachers and students in the countries of exchange. Based on proposals submitted by U.S. teachers to conduct these activities in specific eligible countries, the U.S. Embassy, Fulbright Commission, or other organization as applicable in each participating country will facilitate a relevant academic or professional affiliation in consultation with each U.S. Distinguished Teacher. The U.S. cooperating organization will identify one U.S. university to provide the international Distinguished Teachers with broad-ranging access to faculty resources, schools, and other educational opportunities. In FY 2009, a pilot program for approximately twelve U.S. teachers and twelve international teachers is anticipated. Amount available for program and administration estimated at up to approximately $900,000.

Pair B

3. The International Leaders in Education Program will bring approximately 86 international secondary school teachers to U.S. universities for a semester to develop their teaching skills, to increase their subject-matter expertise, and to pursue coursework and practical teaching experiences in American high schools. Fulbright Commissions and U.S. Embassies will be responsible for recruiting applicants and nominating candidates. The cooperating U.S. organization will be responsible for convening independent committees to select candidates for approval by ECA for participation in the program. This organization will also be responsible for identifying approximately five appropriate host universities through a national competition, for organizing a three-day orientation session and a three-day end-of-program review in Washington, DC, and for actively monitoring program implementation in the host universities and schools. In cohorts of approximately 15-20 participants at each host university, the participants will audit university-level courses relevant to their teaching field and expertise, attend professional development seminars, workshops, and conferences on education-related and pedagogical topics, and teach or team-teach for eight weeks in U.S. secondary schools in cooperation with experienced U.S. partner teachers. The universities and schools should also provide opportunities for participants to share information about their home countries with U.S. audiences, and to prepare training workshops for colleagues after returning to their home countries. A limited number of American host teachers will also be selected to travel to some of the international teachers' home schools for two- to three-week programs. Administrative and program costs are estimated at up to approximately $2,500,000.

4. Under the Teaching Excellence and Achievement program component, groups of educators from a variety of countries will participate in three six-week programs in FY 2009. Based in clusters of 20 participants at approximately five different U.S. universities, a total of approximately 180 international educators will participate in seminars, share pedagogical practices, and engage in classroom teaching, observation, and curriculum development in the fields of English, English as a Foreign Language, math, science, social studies and civics. Under this program, U.S. Embassies and Fulbright Commissions will recruit and select international participants. The U.S. cooperating organization will identify, through a national competition, U.S. universities with access to appropriate faculty and community resources to administer the three-week seminars and to arrange for participants to teach or job-shadow in U.S. secondary schools for approximately three weeks under the guidance of experienced mentor teachers or administrators. The universities and schools should also provide opportunities for participants to share information about their home countries with U.S. audiences and to prepare workshops for colleagues after returning to their countries. The U.S. cooperating organization will administer a three-day orientation session in Washington, DC and a three-day end-of-program review. The U.S. cooperating organization will also organize a competition to identify approximately 105 U.S. educators to make reciprocal visits in two groups (a summer cohort and a fall cohort) to the international teachers' home countries to gain a deeper understanding of the educational systems and cultures of these countries, and to establish or strengthen cooperation with schools in the participating countries. Amount available for program and administration estimated at up to approximately $3,750,000.

Pair C

5. Educational Seminars

(a) We anticipate that approximately 100 teachers and other educators will travel to the U.S. in country-specific groups to learn about the U.S. educational system in seminars of two to three weeks, and through visits to U.S. secondary schools. Currently anticipated for participation in the seminars are Argentina, Brazil, Jordan, Mexico, Thailand and Uruguay, although additional countries may be added, depending on Bureau priorities. Applicant organizations must demonstrate flexibility in working in countries which may not be identified at the present time. These seminars will provide an introduction to the U.S. educational system and to U.S. society and culture. Fulbright Commissions, U.S. Embassies, or other educational organizations in these countries will recruit and select international educators for the seminars, while the U.S. cooperating agency will be responsible for recruiting and selecting U.S. candidates, for implementing a three-day orientation in Washington, DC, for arranging visits of participants in groups to geographically and socially diverse U.S. schools with an interest in hosting the international educators, and for overseeing an end-of-program review. Some seminars will require translation as noted in the POGI. Approximately 45 selected U.S. educators from the host schools will make reciprocal exchange visits to these countries in programs to be organized by Fulbright Commissions (except in Jordan, where there is not a reciprocal component).

(b.) Approximately 20 U.S. secondary school teachers of Greek, Latin, and the classics will attend intensive summer courses lasting from six to eight weeks to be organized by the Fulbright Commissions and U.S. non-profit partner organizations in Greece and Italy. The U.S. cooperating organization will be responsible for notifying participants of their selection, helping arrange their transportation, and providing them with a maintenance allowance during the seminar. The non-profit organizations will arrange orientation meetings for the participants upon their arrival in Greece and Italy.

(c.) Approximately 6 U.S. teachers will travel to India for a four-week summer program with Indian teachers and schoolchildren. The U.S. cooperating organization will be responsible for administering an open competition to select the participants, and for administering their awards. The Fulbright Commission in India will organize a program of visits to Indian schools for discussions and observation of best practices with Indian counterpart teachers.

Recruitment of U.S. participants for the FY 2009 Educational Seminars is being undertaken by an incumbent organization with FY 2008 resources; under this competition, proposals should include the costs of recruitment for the 2010 seminars, for which grants to participants will be provided in FY 2010 (except Jordan which does not have a program for U.S. educators). Amount available for program and administration of the seminars estimated at up to approximately $1,550,000.

6. Approximately 38 Teachers of Critical Languages will come from China and the Middle East to teach Chinese and Arabic at U.S. elementary and secondary schools for an academic year. In FY 2009, we may also request applicants to administer pilot initiatives for two teachers from Russia and two from Japan to teach their native languages at K-12 schools for an academic year. Applicant organizations must demonstrate flexibility in working in countries which may not be identified at the present time. This activity is a component of the National Security Language Initiative announced by President George W. Bush in January 2006 to encourage the study and teaching of critical languages in the United States. The cooperating U.S. organization will recruit U.S. host schools, oversee the placement of Chinese and Arabic (and possibly Russian, Japanese, and other) teachers, provide an in-depth two-week orientation session on relevant U.S. pedagogical, educational, and social issues, and monitor and support the teachers and their engagement with the U.S. host schools throughout the program. International teachers will be recruited and selected by U.S. embassies or partner organizations in the participating countries. Amount available for program and administration estimated at up to approximately $2,225,000.

Program Administration

Bureau activities and responsibilities for all 6 teacher exchange program components (3 pairs) include:

(1) Participation in the design and direction of program activities;

(2) Approval of key personnel;

(3) Approval and input on program timelines, agendas and administrative procedures;

(4) Guidance in execution of all program components;

(5) Review and approval of all program publicity and recruitment materials;

(6) Approval of participating teachers and administrators, in cooperation with Fulbright commissions, U.S. embassies, and international non-governmental organizations, (Fulbright program candidates are also subject to final selection by the Fulbright Board);

(7) Approval of decisions related to special circumstances or problems throughout the duration of program;

(8) Assistance with non-immigration status and other SEVIS-related issues;

(9) Assistance with participant emergencies;

(10) Liaison with relevant U.S. embassies, Fulbright commissions and country desk officers at the State Department.

Programs must conform with Bureau requirements and guidelines outlined in the Solicitation Package which includes the Request for Grant Proposals (RFGP), the Project Objectives, Goals and Implementation (POGI) and the Proposal Submission Instructions (PSI).

Cooperating Agency Responsibilities

The cooperating agency or agencies is/are responsible for various aspects of outreach, recruitment, and screening of applicants; SEVIS duties and preparation of form DS-2019 under a G Program Number under the Bureau's responsibility on behalf of the Teacher Exchange Branch; orientation programs, professional in-service meetings, and debriefings; placement and, as required for the classroom teacher exchanges, matching U.S. teachers with international counterparts; monitoring, supervision, and support of participants; administering sub-award competitions as necessary; and fiscal management, evaluation, and follow-on and alumni activities for the program components described above. Please see the POGI for details pertaining to these activities for each program component. The Bureau's program office and the cooperating agency or agencies will meet regularly regarding program implementation. The Bureau's program office and the cooperating agency or agencies will also maintain regular telephone, e-mail, and fax communications with each other.

Additional Guidelines

Applicant organizations should submit separate proposals with budgets and narratives outlining a comprehensive strategy for the administration and implementation of each pair of program components for which they are applying: (Pair A: Fulbright Classroom Teacher Exchanges/Distinguished Fulbright Awards in Teaching; Pair B: International Leaders in Education/Teaching Excellence and Achievement; Pair C: Educational Seminars/Teachers of Critical Languages). Organizations may apply for more than one pair of components, but may not apply to administer program components except in the combinations prescribed. Proposals should reflect a vision for the programs, interpreting the goals of the Fulbright-Hays Act and the Teacher Exchange Program with creativity, as well as providing innovative ideas and recommendations. The Bureau places a priority on ensuring that the positive impact of the Teacher Exchange Program is visible to the public in U.S. and host school communities. Applicant organizations should outline a plan to work with the media and other organizations, in close consultation with the Bureau, to ensure that the program and its awards and achievements receive appropriate publicity.

The narrative portion of the proposal for each pair of program components should not exceed 20 pages. Proposals may utilize appendices to illustrate elements of the narrative.

Applicants must also provide a separate administrative and program budget for each program pair. Where possible, proposals should reflect economies of scale and should demonstrate administrative efficiencies.

Please refer to the Solicitation Package for further information.

II. Award Information

Type of Award: Cooperative Agreement(s). ECA's level of involvement in this program is listed under number I above.

Fiscal Year Funds: 2009.

Approximate Total Funding: $13,875,000 pending availability of funds.

Approximate Number of Awards: 3 awards.

Anticipated Award Date: Pending availability of funds, October 1, 2008.

Anticipated Project Completion Date: September 30, 2011.

Additional Information: Pending successful implementation of this program and the availability of funds in subsequent fiscal years, it is ECA's intent to renew the grants for a period of two additional fiscal years, before openly competing the programs again.

III. Eligibility Information

III.1. Eligible applicants: Applications may be submitted by public and private non-profit organizations or consortia of institutions meeting the provisions described in Internal Revenue Code section 26 U.S.C. 501(c)(3).

Consortia of eligible organizations applying for grants should designate one organization to be the recipient of the cooperative agreement award. Proposals from consortia should provide a detailed description of the responsibilities of each partner organization.

Organizations with primary responsibility for any of the six program components must have a staff based in Washington, DC at the time of application.

III.2. Cost Sharing or Matching Funds: The Bureau anticipates that proposals will include significant amounts of cost-sharing in support of the Teacher Exchange Program, and encourages applicants to provide maximum levels of funding in support of this initiative.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements: Bureau grant guidelines require that organizations with less than four years experience in conducting international exchanges be limited to $60,000 in Bureau funding. ECA anticipates awarding one or more cooperative agreement awards in (an) amount(s) over $60,000 to support program and administrative costs required to implement this exchange program. Therefore, organizations with less than four years experience in conducting international exchanges are ineligible to apply under this competition.

IV. Application and Submission Information

Note: Please read the complete announcement before sending inquiries or submitting proposals. Once the RFGP deadline has passed, Bureau staff may not discuss this competition with applicants until the proposal review process has been completed.

IV.1. Contact Information to Request an Application Package: Please contact Ms. Pat Mosley in the Teacher Exchange Branch, ECA/A/S/X, Room 349, U.S. Department of State, SA-44, 301 4th Street, SW., Washington, DC 20547, e-mail: mosleypm@state.gov, telephone: (202) 453-8897 and fax number: (202) 453-8890, to request a Solicitation Package. Please refer to the Funding Opportunity Number ECA/A/S/X-09-01 when making your request.

Alternatively, an electronic application package may be obtained from http://www.grants.gov. Please see section IV.3f. for further information.

The Solicitation Package contains the Proposal Submission Instruction (PSI) document which consists of required application forms, and standard guidelines for proposal preparation.

It also contains the Project Objectives, Goals and Implementation (POGI) document, which provides specific information, award criteria and budget instructions tailored to this competition.

IV.2. To Download a Solicitation Package Via the Internet: The entire Solicitation Package may be downloaded from the Bureau's Web site at http://exchanges.state.gov/education/rfgps/menu.htm, or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call (1-866) 705-5711. Please ensure that your DUNS number is included in the appropriate box of the SF—424 which is part of the formal application package.

IV.3b. All proposals must contain an executive summary, a proposal narrative, and a budget for each program within the program pair(s) for which the applicant applies. The proposal narrative for each program pair should not exceed twenty (20) pages in length.

Please Refer to the Solicitation Package. The mandatory Proposal Submission Instructions (PSI) document and the Project Objectives, Goals and Implementation (POGI) document contain additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa: The Bureau of Educational and Cultural Affairs places critically important emphases on the secure and proper administration of Exchange Visitor (J visa) Programs and adherence by grantees and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, record-keeping, reporting and other requirements.

The Grantee will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, Fax: (202) 453-8640.

Please refer to Solicitation Package for further information.

IV.3d.2. Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the 'Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation: Proposals must include a plan to monitor and evaluate the project's success, both as the activities unfold and at the end of the program. The Bureau recommends that your proposal include a draft survey questionnaire or other instrument plus a description of a methodology to use to link outcomes to original project objectives. The Bureau expects that the grantee will be able to respond to key evaluation questions, including participant satisfaction with the program, learning as a result of the program, and anticipated changes in behavior as a result of the program. The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

We encourage you to assess the following three levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Anticipated Participant behavior, anticipated actions to apply knowledge in work or community; greater participation and responsibility in civic organizations; interpretation and explanation of experiences and new knowledge gained; continued contacts between participants, community members, and others.

Grantees will be required to provide reports analyzing their evaluation findings to the Bureau in their regular program reports. Grantees will be required to submit “success stories” for Bureau reporting purposes as well as outreach. All data collected, including survey responses and contact information, must be maintained for a minimum of three years and provided to the Bureau upon request.

IV.3d.4. Describe your plans for: overall program management, staffing, coordination with ECA and with U.S. and international educational institutions, Fulbright commissions and PAS of U.S. embassies. Provide a staffing plan which outlines the responsibilities of each staff person and explains which staff members will be accountable for each program responsibility. Whenever possible, streamline administrative processes.

IV.3e. Please take the following information into consideration when preparing your budget:

IV.3e.1. Applicants must submit a comprehensive line item administrative budget for each program within the program pairs which they are applying to administer. It is anticipated that funding for the cooperative agreement awards for program administration of the three pairs of teacher exchange programs described here will be approximately $13,875,000.

IV.3e.2. Allowable costs and additional budget guidance are outlined in detail in the POGI document. Please refer to the Solicitation Package for complete budget guidelines and formatting instructions.

IV.3f. Application Deadline and Methods of Submission:

Application Deadline Date: May 23, 2008.

Reference Number: ECA/A/S/X-09-01.

Methods of Submission:

Applications may be submitted in one of two ways:

1. In hard-copy, via a nationally recognized overnight delivery service (i.e., DHL, Federal Express, UPS, Airborne Express, or U.S. Postal Service Express Overnight Mail, etc.), or

2. Electronically through http://www.grants.gov.

Along with the Project Title, all applicants must enter the above Reference Number in Box 11 on the SF-424 contained in the mandatory Proposal Submission Instructions (PSI) of the solicitation document.

IV.3f.1. Submitting Printed Applications: Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and 10 copies of the application should be sent to: U.S. Department of State, SA-44, Bureau of Educational and Cultural Affairs, Ref.: ECA/A/S/X-09-01, Program Management, ECA/EX/PM, Room 534, 301 4th Street, SW., Washington, DC 20547.

IV.3f.2. Submitting Electronic Applications: Applicants have the option of submitting proposals electronically through Grants.gov (http://www.grants.gov). Complete solicitation packages are available at Grants.gov in the “Find” portion of the system. Please follow the instructions available in the ‘Get Started' portion of the site (http://www.grants.gov/GetStarted).

Several of the steps in the Grants.gov registration process could take several weeks. Therefore, applicants should check with appropriate staff within their organizations immediately after reviewing this RFGP to confirm or determine their registration status with Grants.gov. Once registered, the amount of time it can take to upload an application will vary depending on a variety of factors including the size of the application and the speed of your Internet connection. Therefore, we strongly recommend that you not wait until the application deadline to begin the submission process through Grants.gov.

Direct all questions regarding Grants.gov registration and submission to: Grants.gov Customer Support.

Contact Center Phone: (800) 518-4726.

Business Hours: Monday-Friday, 7 a.m.-9 p.m. Eastern Time.

E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as Public Affairs Sections overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

V.2. Review Criteria

Technically eligible applications will be competitively reviewed according to the criteria stated below. These criteria are not rank ordered and all carry equal weight in the proposal evaluation:

1. Quality of the program idea: Proposals should exhibit originality, substance, precision, and relevance to the Bureau's mission. Proposals should demonstrate a commitment to excellence and creativity in the implementation and management of this program in its various formats, including the recruitment, matching, and placement of U.S. and international teachers and administrators, quality of professional and pre-academic workshops, and effectiveness of program design.

2. Program planning: Proposals should respond precisely to the planning requirements outlined in the RFGP and POGI. Planning should demonstrate substantive rigor. Detailed agendas and relevant work plans, including timelines, should demonstrate feasibility and the applicant's logistical capacity to implement the programs.

3. Ability to achieve program objectives: Proposals should demonstrate clearly how the applicant will fulfill the programs' objectives and implement plans, while demonstrating innovation and a commitment to academic excellence and programmatic impact. Proposals should demonstrate a capacity for flexibility in the management of the programs.

4. Institutional Capacity: Proposed personnel and institutional resources should be adequate and appropriate to achieve program goals. Applicants should demonstrate established links to secondary schools and institutions of higher education in the U.S. and knowledge of the overseas educational environment, particularly an awareness of conditions in societies and educational institutions outside the United States as they apply to academic exchange programs. Applicants should demonstrate prior experience or the capacity to negotiate significant cost savings for international teachers from American institutions. Applicants should also demonstrate their capacity to provide an information management/database system that meets program requirements, is compatible with the Bureau's systems, and provides for electronic applications, electronic data storage, and electronic payment of maintenance allowances. In its review of proposals, the Bureau will consider the past performance of prior recipients and the demonstrated potential of new applicants.

5. Support of Diversity: Proposals should demonstrate substantive support of the Bureau's policy on diversity. Achievable and relevant features should be cited in both program administration (recruitment and selection of participants, placements, and program evaluation) and program content (orientation programs, professional meetings, debriefings). Proposals should articulate a diversity plan, not just a statement of compliance.

6. Project Evaluation: Proposals should include a plan to evaluate the programs' success, both as the activities unfold and at the end of the programs. The Bureau recommends that proposals include a draft survey questionnaire or other instrument plus description of a methodology to use to link outcomes to original objectives.

7. Cost-effectiveness/Cost-sharing: The overhead and administrative components of the proposal, including salaries, should be kept as low as possible while adequate and appropriate to provide the required services. Proposals should document plans to realize innovative cost-sharing, cost-savings and other efficiencies through use of technology, administrative streamlining, and other management techniques.

VI. Award Administration Information

VI.1a. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants; http://exchanges.state.gov/education/grantsdiv/terms.htm#articleI.

VI.3. Reporting Requirements:

You must provide ECA with a hard copy original plus two copies of the following reports:

A final program and financial report no more than 90 days after the expiration of the award; quarterly financial reports, and ad hoc program and financial reports as requested by the Teacher Exchange Branch.

All data collected, including survey responses and contact information, must be maintained for a minimum of three years and provided to the Bureau upon request.

All reports must be sent to the ECA Grants Officer and ECA Program Officer listed in the final assistance award document.

VII. Agency Contacts

For questions about this announcement, contact: Mr. Michael Kuban, Fulbright Teacher Exchange Branch, ECA/A/S/X, Room 349, ECA/A/S/X-09-01, U.S. Department of State, SA-44, 301 4th Street, SW., Washington, DC 20547, e-mail: Kubanmm@state.gov, phone: (202) 453-8897, and fax: (202) 453-8890.

All correspondence with the Bureau concerning this RFGP should reference the above title and number ECA/A/S/X-09-01.

Please read the complete announcement before sending inquiries or submitting proposals. All inquiries about the RFGP or any aspect of the Teacher Exchange Program should be submitted in writing via e-mail to Mr. Kuban. Any questions or requests for information from overseas Fulbright commissions or Public Affairs Sections of U.S. embassies should be submitted in writing via e-mail to Ms. Mosley for transmission to those overseas offices. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: March 4, 2008.
C. Miller Crouch,
Acting Assistant Secretary, Bureau of Educational and Cultural Affairs, Department of State.

[FR Doc. E8-5041 Filed 3-12-08; 8:45 am]

BILLING CODE 4710-05-P